DEPARTMENT OF COMMERCE

International Trade Administration

[C-570-177]

Certain Low Speed Personal Transportation Vehicles From the People's Republic of China: Preliminary Affirmative Countervailing Duty Determination, Preliminary Affirmative Determination of Critical Circumstances, in Part, and Alignment of Final Determination With Final Antidumping Duty Determination

AGENCY: Enforcement and Compliance, International Trade Administration, Department of Commerce.

SUMMARY: The U.S. Department of Commerce (Commerce) preliminarily determines that countervailable subsidies are being provided to producers and exporters of certain low speed personal transportation vehicles (LSPTVs) from the People's Republic of China (China). The period of investigation (POI) is January 1, 2023, through December 31, 2023. Interested parties are invited to comment on this preliminary determination.

DATES: Applicable December 6, 2024.

FOR FURTHER INFORMATION CONTACT: Dan Alexander, AD/CVD Operations, Office VII, Enforcement and Compliance, International Trade Administration, U.S. Department of Commerce, 1401 Constitution Avenue NW, Washington, DC 20230; telephone: (202) 482-4313.

SUPPLEMENTARY INFORMATION:

Background

This preliminary determination is made in accordance with section 703(b) of the Tariff Act of 1930, as amended (the Act). Commerce published the notice of initiation of this countervailing duty (CVD) investigation on July 16, 2024.¹ On July 25, 2024, Commerce tolled certain deadlines in this administrative proceeding by seven days.² On September 10, 2024, Commerce postponed the preliminary determination until November 25, 2024.³

¹ See Certain Low Speed Personal Transportation Vehicles from the People's Republic of China: Initiation of Countervailing Duty Investigation, 89 FR 73371 (July 16, 2024) (Initiation Notice).

² See Memorandum, “Tolling of Deadlines for Antidumping and Countervailing Duty Proceedings,” dated July 25, 2024.

³ See Certain Low Speed Personal Transportation Vehicles from the People's Republic of China: Postponement of Preliminary Determination in the Countervailing Duty Investigation, 89 FR 73371 (September 10, 2024).

For a complete description of events that followed the initiation of this investigation, see the Preliminary Decision Memorandum.⁴ A list of topics discussed in the Preliminary Decision Memorandum is included as Appendix II to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Affirmative Determination of the Countervailing Duty Investigation of Certain Low Speed Personal Transportation Vehicles from the People's Republic of China,” dated concurrently with, and hereby adopted by, this notice (Preliminary Decision Memorandum).

Scope of the Investigation

The products covered by this investigation are LSPTVs from China. For a complete description of the scope of this investigation, see Appendix I.

Scope Comments

In accordance with the Preamble to Commerce's regulations,⁵ in the Initiation Notice Commerce set aside a period of time for parties to raise issues regarding product coverage (i.e., scope).⁶ Certain interested parties commented on the scope of the less-than-fair-value (LTFV) and CVD investigations as it appeared in the Initiation Notice. Commerce preliminary determined to modify the scope of this investigation to include one additional Harmonized Tariff Schedule of the United States Subheading (i.e. 8703.10.5060). See the scope in Appendix I to this notice. Additionally, Commerce is proposing certain modifications to the language of the scope of these LTFV and CVD investigations and invite interested parties to submit comments. For further discussion, see the Preliminary Scope Modification Memorandum.⁷

⁵ See Antidumping Duties; Countervailing Duties, Final Rule, 62 FR 27296, 27323 (May 19, 1997) (Preamble).

⁶ See Initiation Notice, 89 FR at 49834.

⁷ See Memorandum, “Less-Than-Fair-Value and Countervailing Duty Investigations of Certain Low Speed Personal Transportation Vehicles from the People's Republic of China: Preliminary Scope Modification Memorandum,” dated concurrently with this notice (Preliminary Scope Modification Memorandum).

Methodology

Commerce is conducting this investigation in accordance with section 701 of the Act. For each of the subsidy programs found to be countervailable, Commerce preliminarily determines that there is a subsidy, i.e., a financial contribution by an “authority” that gives rise to a benefit to the recipient, and that the subsidy is specific.⁸ For a full description of the methodology underlying our preliminary determination, see the Preliminary Decision Memorandum.

⁸ See sections 771(5)(B) and (D) of the Act regarding financial contribution; section 771(5)(E) of the Act regarding benefit; and section 771(5A) of the Act regarding specificity.

Commerce notes that, in making these findings, it relied, in part, on facts available, and, because it finds that certain respondents and the Government of China did not act to the best of their ability to respond to Commerce's requests for information, it drew an adverse inference where appropriate in selecting from among the facts otherwise available.⁹ For further information, see the “Use of Facts Otherwise Available and Adverse Inferences” section in the Preliminary Decision Memorandum.

⁹ See sections 776(a) and (b) of the Act.

Preliminary Affirmative Determination of Critical Circumstances, in Part

In accordance with section 703(e)(1) of the Act, we preliminarily find that critical circumstances exist with respect to imports of subject merchandise from Guangdong Lvtong New Energy Electric Vehicle Technology Co., Ltd. (Lvtong), and the companies who did not respond to our quantity and value (Q&V) questionnaire (i.e., the non-responsive companies).¹⁰ We also preliminarily find that critical circumstances do not exist with respect to imports of subject merchandise from Xiamen Dalle New Energy Automobile Co., Ltd (Xiamen Dalle) and all other producers and/or exporters. For a full discussion of our preliminary critical circumstances determination, see the “Preliminary Critical Circumstances” section of the Preliminary Decision Memorandum.

¹⁰ The companies that failed to respond to Commerce's Q&V questionnaire are: (1) Shandong Odes Industry Co. Ltd.; and (2) Hebei Machinery Import and Export Co., Ltd.

Alignment

In accordance with section 705(a)(1) of the Act and 19 CFR 351.210(b)(4), Commerce is aligning the final CVD determination in this investigation with the final determination in the concurrent LTFV investigation of LSPTVs from China, based on a request made by the petitioner.¹¹ Consequently, the final CVD determination will be issued on the same date as the final LTFV determination, which is currently scheduled to be issued no later than April 8, 2025, unless postponed.¹²

¹¹ See Petitioner's Letter, “Request to Align Countervailing Duty Investigation Final Determination with Antidumping Duty Investigation Final Determination,” dated November 12, 2024.

¹² See Low Speed Personal Transportation Vehicles from the People's Republic of China: Postponement of Preliminary Determination in the Less-Than-Fair Value Investigation, 89 FR 89591 (November 13, 2024) (LTFV Postponement).

All-Others Rate

Sections 703(d) and 705(c)(5)(A) of the Act provide that, in the preliminary determination, Commerce shall determine an estimated all-others rate for companies not individually examined. This rate shall be an amount equal to the weighted average of the estimated subsidy rates established for those companies individually examined, excluding any rates that are zero, de minimis, or based entirely under section 776 of the Act.

In this investigation, Commerce preliminarily calculated total net subsidy rates for Xiamen Dalle and Lvtong that are not zero, de minimis, or based entirely on the facts otherwise available. Because Commerce calculated individual estimated countervailable subsidy rates for Xiamen Dalle and Lvtong that are not zero, de minimis, or based entirely on the facts otherwise available, we have preliminarily calculated the all-others rate using a simple-average of the individual subsidy rates calculated for the examined respondents (i.e., 22.04 percent).¹³

¹³ See Memorandum, “Calculation of Subsidy Rate for All Others,” dated concurrently with this notice.

Rate for Non-Responsive Companies

Two potential exporters and/or producers of LSPTVs from China did not respond to Commerce's Q&V questionnaire.¹⁴ We find that, by not responding to the Q&V questionnaire, these companies withheld requested information and significantly impeded this proceeding. Thus, in reaching our preliminary determination, pursuant to sections 776(a)(2)(A) and (C) of the Act, we are basing the subsidy rate for the non-responsive companies on facts otherwise available.

¹⁴ As noted above, these companies are: (1) Shandong Odes Industry Co. Ltd.; and (2) Hebei Machinery Import and Export Co., Ltd.

We further preliminarily determine that an adverse inference is warranted, pursuant to section 776(b) of the Act. By failing to submit responses to Commerce's Q&V questionnaire, the non-responsive companies did not cooperate to the best of their ability in this investigation. Accordingly, we preliminarily find that an adverse inference is warranted to ensure that the non-responsive companies will not obtain a more favorable result than had they fully complied with our request for information. For more information on the application of adverse facts available to the non-responsive companies, see “Use of Facts Otherwise Available and Adverse Inferences” in the Preliminary Determination Memorandum.

Preliminary Determination

Commerce preliminarily determines that the following estimated countervailable subsidy rates exist:

Company | Subsidy rate (percent ad valorem)
Guangdong Lvtong New Energy Electric Vehicle Technology Co., Ltd | 22.84
Hebei Machinery Import and Export Co., LTD | * 515.37
Shandong Odes Industry Co. Ltd | * 515.37
Xiamen Dalle New Energy Automobile Co., Ltd | 21.23
All Others | 22.04
* Rate based on facts available with adverse inferences.

Disclosure

Commerce intends to disclose to interested parties its calculations and analysis performed in connection with this preliminary determination within five days of its public announcement or, if there is no public announcement, within five days of the date of publication of this notice in the Federal Register, accordance with 19 CFR 351.224(b).

Consistent with 19 CFR 351.224(e), Commerce will analyze and, if appropriate, correct any timely allegations of significant ministerial errors by amending the preliminary determination. However, consistent with 19 CFR 351.224(d), Commerce will not consider incomplete allegations that do not address the significance standard under 19 CFR 351.224(g) following the preliminary determination. Instead, Commerce will address such allegations in the final determination together with issues raised in the case briefs or other written comments.

Suspension of Liquidation

With the exception of Lvtong and the non-responsive companies, in accordance with section 703(d)(1)(B) and (d)(2) of the Act, Commerce will direct U.S. Customs and Border Protection (CBP) to suspend liquidation of entries of subject merchandise, as described in the scope of the investigation, entered, or withdrawn from warehouse, for consumption on or after the date of publication of this notice in the Federal Register. Further, pursuant to 19 CFR 351.205(d), Commerce will instruct CBP to require a cash deposit equal to the rates indicated above.

Section 703(e)(2) of the Act provides that, given an affirmative determination of critical circumstances, any suspension of liquidation shall apply to unliquidated entries of merchandise entered, or withdrawn from warehouse, for consumption on or after the later of: (a) the date which is 90 days before the date on which the suspension of liquidation was first ordered; or (b) the date on which notice of initiation of the investigation was published. Commerce preliminarily finds that critical circumstances exist for imports of subject merchandise produced and/or exported by Lvtong and the non-responsive companies (i.e., Shandong Odes Industry Co. Ltd. and Hebei Machinery Import and Export Co., Ltd.). In accordance with section 703(e)(2)(A) of the Act, the suspension of liquidation shall apply to unliquidated entries of merchandise from the exporters/producers identified in this paragraph that were entered, or withdrawn from warehouse, for consumption on or after the date which is 90 days before the publication of this notice.

Verification

As provided in section 782(i)(1) of the Act, Commerce intends to verify the information relied upon in making its final determination.

Public Comment

As discussed above, Commerce is proposing certain modifications to the language of the scope of these LTFV and CVD investigations and invites interested parties to submit comments. Commerce intends to issue our preliminary decision regarding the proposed scope modifications no later than January 23, 2025, the date of the preliminary determination in the companion LTFV investigation.¹⁵ All interested parties will have the opportunity to submit scope case and rebuttal briefs, and we will establish a briefing schedule to allow interested parties to comment on our preliminary scope decision at that time. For all scope case and rebuttal briefs, parties must file identical documents simultaneously on the records of the ongoing LTFV and CVD investigations of LSPTVs from China. No new factual information or business proprietary information may be included in either scope case or rebuttal briefs.

¹⁵ See LTFV Postponement.

Case briefs or other written comments regarding non-scope issues may be submitted to the Assistant Secretary for Enforcement and Compliance no later than seven days after the date on which the last verification report is issued in this investigation. Rebuttal briefs, limited to issues raised in the case briefs, may be filed not later than five days after the date for filing case briefs.¹⁶ Interested parties who submit case or rebuttal briefs in this proceeding must submit: (1) a table of contents listing each issue; and (2) a table of authorities.¹⁷

¹⁶ See 19 CFR 351.309(d); see also Administrative Protective Order, Service, and Other Procedures in Antidumping and Countervailing Duty Proceedings, 88 FR 67069, 67077 (September 29, 2023) (APO and Service Final Rule).

¹⁷ See 19 CFR 351.309(c)(2) and (d)(2).

As provided under 19 CFR 351.309(c)(2) and (d)(2), in prior proceedings we have encouraged interested parties to provide an executive summary of their brief that should be limited to five pages total, including footnotes. In this investigation, we instead request that interested parties provide at the beginning of their briefs a public executive summary for each issue raised in their briefs.¹⁸ Further, we request that interested parties limit their public executive summary of each issue to no more than 450 words, not including citations. We intend to use the public executive summaries as the basis of the comment summaries included in the issues and decision memorandum that will accompany the final determination in this investigation. We request that interested parties include footnotes for relevant citations in the executive summary of each issue. Note that Commerce has amended certain of its requirements pertaining to the service of documents in 19 CFR 351.303(f).¹⁹

¹⁸ We use the term “issue” here to describe an argument that Commerce would normally address in a comment of the Issues and Decision Memorandum.

¹⁹ See APO and Service Final Rule, 88 FR at 67069.

Pursuant to 19 CFR 351.310(c), interested parties who wish to request a hearing, limited to issues raised in the case and rebuttal briefs, must submit a written request to the Assistant Secretary for Enforcement and Compliance, U.S. Department of Commerce via ACCESS within 30 days after the date of publication of this notice. Requests should contain (1) the party's name, address, and telephone number; (2) the number of participants and whether any participant is a foreign national; and (3) a list of the issues to be discussed. Oral presentations at the hearing will be limited to issues raised in the briefs. If a request for a hearing is made, parties will be notified of the time and date for the hearing.²⁰ Parties should confirm by telephone the date, time, and location of the hearing two days before the scheduled date.

²⁰ See 19 CFR 351.310(d).

All submissions, including case and rebuttal briefs, as well as hearing requests, should be filed using ACCESS. An electronically-filed document must be received successfully in its entirety by ACCESS by 5:00 p.m. Eastern Time on the established deadline.

U.S. International Trade Commission (ITC) Notification

In accordance with section 703(f) of the Act, Commerce will notify the ITC of its determination. If the final determination is affirmative, the ITC will determine before the later of 120 days after the date of this preliminary determination or 45 days after the final determination whether imports of LSPTVs from China are materially injuring, or threaten material injury to, the U.S. industry.

Notification to Interested Parties

This determination is issued and published in accordance with sections 703(f) and 777(i)(1) of the Act, and 19 CFR 351.205(c).

Dated: November 25, 2024.
Abdelali Elouaradia,
Deputy Assistant Secretary for Enforcement and Compliance.

Appendix I

Scope of the Investigation

The merchandise covered by this investigation consists of certain low speed personal transportation vehicles (LSPTV) and subassemblies thereof, whether finished or unfinished and whether assembled or unassembled, with or without tires, wheels, seats, steering columns and steering wheels, canopies, roofs, or batteries. LSPTVs meeting this description are generally open-air vehicles with a minimum of four wheels, a steering wheel, a traditional side-by-side or in-line row seating arrangement (i.e., non-straddle), foot operated accelerator and brake pedals, and a gross vehicle weight of no greater than 5,500 pounds. The main power source for subject LSPTVs is either an electric motor and battery (including but not limited to lithium-ion batteries, lithium phosphate batteries, lead acid batteries, and absorbed glass mat batteries) or a gas-powered internal combustion engine. Subject LSPTVs may be described as golf carts, golf cars, low speed vehicles, personal transportation vehicles, or light utility vehicles.

LSPTVs subject to this investigation typically have a maximum top nameplate speed of no greater than 25 miles per hour as required by federal, state, and local laws and regulations. Subject LSPTVs with a maximum top nameplate speed greater than 20 miles per hour normally must comply with the U.S. Department of Transportation's Federal Motor Vehicle Safety Standards for Low-Speed Vehicles set forth in 49 CFR 571.500. LSPTVs that otherwise meet the physical description of this scope but are not certified under 49 CFR 571.500 and are not certified under other sections of subpart B of the Federal Motor Vehicle Safety Standards (49 CFR part 571), are not excluded from this investigation. LSPTVs that are certified under both 49 CFR 571.500 and other sections of subpart B of the Federal Motor Vehicle Safety Standards remain subject to the scope of this investigation. Subject LSPTVs that have a maximum top nameplate speed of less than 25 miles per hour may be certified to the SAE International (SAE) standards SAE J2258 and SAE J2358. LSPTVs that have a maximum top nameplate speed of less than 20 miles per hour may also be certified to the Outdoor Power Equipment Institute (OPEI) standards OPEI Z130.1 and OPEI Z135.

An unfinished and/or unassembled LSPTV subject to this investigation covers at a minimum a subassembly, also known as a “rolling chassis,” which is typically comprised of, but not limited to, a frame or body with front and/or rear suspension components (such as arms, springs, axles, spindles, and shafts) installed and powertrain components (including either an electric motor or a gas-powered internal combustion engine) installed or ready for installation.

When imported together with a rolling chassis subject to this investigation, other LSPTV components, such as batteries, bumpers, wheel and tire assemblies, cowlings, fenders, grills, kick plates, steering column and steering wheel assemblies, dash assembly, seat assemblies, pedal assemblies, brake assemblies, canopy or roof assemblies, temporary rain enclosures, windshields, mirrors, headlights, taillights, lighting systems, or storage—whether assembled or unassembled, whether as part of a kit or not, and whether or not accompanied by additional components—constitute part of an unfinished and/or unassembled LSPTV that is subject to this investigation. The inclusion of other products, components, or assemblies not described here does not remove the product from the scope.

Subject LSPTVs and subassemblies are covered by the scope of this investigation whether or not they are accompanied by other parts. This investigation covers all LSPTVs and subassemblies meeting the physical description of the scope, regardless of overall length, width, or height. Individual components that do not comprise a subject LSPTV or subassembly that are entered and sold by themselves are not subject to the investigation, but components entered with a LSPTV or subassembly, whether finished or unfinished and whether assembled or unassembled, are subject merchandise.

LSPTVs and subassemblies subject to this investigation include those that are produced in the subject country whether assembled with other components in the subject country or in a third country. Processing or completion of finished and unfinished LSPTVs and subassemblies either in the subject country or in a third country does not remove the product from the scope.

Specifically excluded from the scope of this investigation are all-terrain vehicles (which typically have straddle seating and are steered by handlebars), multipurpose off-highway utility vehicles (which typically have a maximum top nameplate speed of greater than 25 miles per hour), and recreational off-highway vehicles (which typically have a maximum top nameplate speed of greater than 30 miles per hour). Also excluded from the scope are go-karts, electric scooters, golf trolleys, and mobility aids (which include power wheelchairs and scooters which are used for the express purpose of enabling mobility for a person).

The LSPTVs subject to the investigation are typically classified in the Harmonized Tariff Schedule of the United States (HTSUS) at subheading 8703.10.5030. LSPTVs subject to the investigation may also enter under HTSUS subheading 8703.10.5060 and 8703.90.0100. The LSPTV subassemblies that are subject to the investigation typically enter under HTSUS subheadings 8706.00.1540 and 8707.10.0040. The HTSUS subheadings are provided for convenience and customs purposes only, and the written description of the merchandise subject to the investigation is dispositive.

Appendix II

List of Topics Discussed in the Preliminary Decision Memorandum

I. Summary

II. Background

III. Alignment

IV. Injury Test

V. Preliminary Affirmative Determination of Critical Circumstances

VI. Analysis of China's Financial System

VII. Diversification of China's Economy

VIII. Use of Facts Available and Adverse Inferences

IX. Subsidies Valuation

X. Benchmarks and Interest Rates

XI. Analysis of Programs

XII. Recommendation

[FR Doc. 2024-28697 Filed 12-5-24; 8:45 am]

BILLING CODE 3510-DS-P